DEPARTMENT OF JUSTICE

Antitrust Division

Notice Pursuant to the National Cooperative Research and Production Act of 1993—Management of Accelerated Technology Insertion II (MATI II)

Notice is hereby given that, on August 28, 2000, pursuant to Section 6(a) of the National Cooperative Research and Production Act of 1993, 15 U.S.C. 4301 et seq. (“the Act”), Management of Accelerated Technology Insertion II (MATI II) has filed written notifications simultaneously with the Attorney General and the Federal Trade Commission disclosing changes in its membership status. The notifications were filed for the purpose of extending the Act's provisions limiting the recovery of antitrust plaintiffs to actual damages under specified circumstances. Specifically, Baxter Healthcare Corporation, Deerfield, IL; DSM Desotech Inc., Elgin, IL; General Motors Corporation, Warren, MI; Roche Diagnosis Corporation, Indianapolis, IN; Rockwell Automation, Milwaukee, WI; Siemens Westinghouse Power Corporation, Orlando, FL; and United Technologies Corporation, East Hartford, CT have been added as parties to this venture.

No other changes have been made in either the membership or planned activity of the group research project. Membership in this group research project remains open, and Management of Accelerated Technology Insertion II intends to file additional written notification disclosing all changes in membership.

On October 15, 1999, Management of Accelerated Technology Insertion II filed its original notification pursuant to Section 6(a) of the Act. The Department of Justice published a notice in the Federal Register pursuant to Section 6(b) of the Act on May 12, 2000 (65 FR 30610).

Constance K. Robinson,
Director of Operations, Antitrust Division.

[FR Doc. 00-24609 Filed 9-25-00; 8:45 am]

BILLING CODE 4410-11-M